DEPARTMENT OF ENERGY

Federal Energy Regulatory Commission

[Docket No. RP04-307-000]

Gas Transmission Northwest Corporation; Notice of Tariff Filing

June 2, 2004.

Take notice that on May 26, 2004, Gas Transmission Northwest Corporation (GTN) tendered for filing to be part of its FERC Gas Tariff, Third Revised Volume No. 1-A, Second Revised Sheet No. 6, to become effective July 1, 2004.

GTN states that the purpose of this filing is to comply with Paragraph 37 of the General Terms and Conditions of its Tariff, “Adjustment Mechanism for Fuel, Line Loss, and Other Unaccounted For Gas Percentages.” GNT notes that pursuant to this paragraph, GTN's fuel and line loss surcharge percentage will change from −0.0002% per Dth per pipeline-mile to 0.0000% per Dth per pipeline-mile for the six-month period beginning July 1, 2004. GNT further states that, as required by Paragraph 37, it is also filing workpapers showing the derivation of the current fuel and line loss percentages in effect for each month of the six-month period ending April 2004.

GTN further states that a copy of this filing has been served on GTN's jurisdictional customers and interested State regulatory agencies.

Any person desiring to be heard or to protest said filing should file a motion to intervene or a protest with the Federal Energy Regulatory Commission, 888 First Street, NE., Washington, DC 20426, in accordance with § 385.214 or § 385.211 of the Commission's rules and regulations. All such motions or protests must be filed in accordance with § 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1285 Filed 6-8-04; 8:45 am]

BILLING CODE 6717-01-P